DEPARTMENT OF ENERGY

Federal Energy Regulatory Commission

Combined Notice of Filings #1

Take notice that the Commission received the following Complaints and Compliance filings in EL Dockets:

Docket Numbers: EL22-26-000.

Applicants: PJM Interconnection, L.L.C.

Description: ISO/RTO § 206 Filing: Revisions to OA Sch. 1, section 5.6 re: Transmission Constraint Penalty Factors to be effective 12/31/9998.

Filed Date: 1/31/22.

Accession Number: 20220131-5393.

Comment Date: 5 p.m. ET 2/7/22.

Take notice that the Commission received the following electric rate filings:

Docket Numbers: ER10-2806-005; ER10-2818-005; ER10-2847-005; ER13-2386-007; ER14-963-005; ER18-1984-002; ER19-1889-002.

Applicants: Antrim Wind Energy LLC, Big Level Wind LLC, TransAlta Wyoming Wind LLC, Lakeswind Power Partners, LLC, TransAlta Centralia Generation LLC, TransAlta Energy Marketing Corporation, TransAlta Energy Marketing (U.S.) Inc.

Description: Notice of Change in Status of TransAlta Energy Marketing (U.S.) Inc., et al.

Filed Date: 1/31/22.

Accession Number: 20220131-5502.

Comment Date: 5 p.m. ET 2/22/22.

Docket Numbers: ER22-874-000.

Applicants: Graphite Solar 1, LLC.

Description: Supplement to January 24, 2022 Baseline Market Rate Based Filing to be effective 1/24/2022.

Filed Date: 1/28/22.

Accession Number: 20220128-5507.

Comment Date: 5 p.m. ET 2/18/22.

Docket Numbers: ER22-949-000.

Applicants: Flat Ridge 3 Wind Energy, LLC.

Description: § 205(d) Rate Filing: CFA, Common Facilities Agreement to be effective 4/2/2022.

Filed Date: 1/31/22.

Accession Number: 20220131-5363.

Comment Date: 5 p.m. ET 2/22/22.

Docket Numbers: ER22-950-000.

Applicants: South Jersey Energy ISO4, LLC.

Description: Tariff Amendment: Cancellation of MBR Tariff to be effective 2/1/2022.

Filed Date: 1/31/22.

Accession Number: 20220131-5366.

Comment Date: 5 p.m. ET 2/22/22.

Docket Numbers: ER22-951-000.

Applicants: South Jersey Energy ISO5, LLC.

Description: Tariff Amendment: Cancellation of MBR Tariff to be effective 2/1/2022.

Filed Date: 1/31/22.

Accession Number: 20220131-5368.

Comment Date: 5 p.m. ET 2/22/22.

Docket Numbers: ER22-952-000.

Applicants: South Jersey Energy ISO6, LLC.

Description: Tariff Amendment: Cancellation of MBR Tariff to be effective 2/1/2022.

Filed Date: 1/31/22.

Accession Number: 20220131-5371.

Comment Date: 5 p.m. ET 2/22/22.

Docket Numbers: ER22-953-000.

Applicants: South Jersey Energy ISO7, LLC.

Description: Tariff Amendment: Cancellation of MBR Tariff to be effective 2/1/2022.

Filed Date: 1/31/22.

Accession Number: 20220131-5372.

Comment Date: 5 p.m. ET 2/22/22.

Docket Numbers: ER22-954-000.

Applicants: South Jersey Energy ISO8, LLC.

Description: Tariff Amendment: Cancellation of MBR Tariff to be effective 2/1/2022.

Filed Date: 1/31/22.

Accession Number: 20220131-5377.

Comment Date: 5 p.m. ET 2/22/22.

Docket Numbers: ER22-955-000.

Applicants: South Jersey Energy ISO9, LLC.

Description: Tariff Amendment: Cancellation of MBR Tariff to be effective 2/1/2022.

Filed Date: 1/31/22.

Accession Number: 20220131-5378.

Comment Date: 5 p.m. ET 2/22/22.

Docket Numbers: ER22-956-000.

Applicants: South Jersey Energy ISO10, LLC.

Description: Tariff Amendment: Cancellation of MBR Tariff to be effective 2/1/2022.

Filed Date: 1/31/22.

Accession Number: 20220131-5380.

Comment Date: 5 p.m. ET 2/22/22.

Docket Numbers: ER22-957-000.

Applicants: PJM Interconnection, L.L.C.

Description: § 205(d) Rate Filing: Revisions to Tariff, Att K, sec 5.6 Transmission Constraint Penalty Factor to be effective 12/31/9998.

Filed Date: 1/31/22.

Accession Number: 20220131-5385.

Comment Date: 5 p.m. ET 2/7/22.

Docket Numbers: ER22-959-000.

Applicants: Southwest Power Pool, Inc.

Description: § 205(d) Rate Filing: 3906 Wedington Solar GIA to be effective 1/10/2022.

Filed Date: 2/1/22.

Accession Number: 20220201-5023.

Comment Date: 5 p.m. ET 2/22/22.

Docket Numbers: ER22-960-000.

Applicants: Nine Mile Point Nuclear Station, LLC.

Description: § 205(d) Rate Filing: First Amendment to the Second Amended and Restated Operating Agreement Filing to be effective 2/1/2022.

Filed Date: 2/1/22.

Accession Number: 20220201-5085.

Comment Date: 5 p.m. ET 2/22/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 1, 2022.
Debbie-Anne A. Reese,
Deputy Secretary.

[FR Doc. 2022-02542 Filed 2-7-22; 8:45 am]

BILLING CODE 6717-01-P